ENVIRONMENTAL PROTECTION AGENCY

[EPA-HQ-OPP-2016-0460; FRL-9963-23-OEI]

Information Collection Request Submitted to OMB for Review and Approval; Comment Request; Requirements for Certified Applicators Using 1080 Collars for Livestock Protection (Renewal)

AGENCY: Environmental Protection Agency (EPA).

ACTION: Notice.

SUMMARY: The Environmental Protection Agency has submitted an information collection request (ICR), Requirements for Certified Applicators Using 1080 Collars for Livestock Protection to the Office of Management and Budget (OMB) for review and approval in accordance with the Paperwork Reduction Act. This is a proposed extension of the ICR, which is currently approved through May 31, 2017. Public comments were previously requested via the Federal Register on September 26, 2016 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before July 24, 2017.

ADDRESSES: Submit your comments, referencing Docket ID Number EPA-HQ-OPP-2016-0460, to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Amaris Johnson, Field and External Affairs Division (7506P), Office of Pesticide Programs, Environmental Protection Agency, 1200 Pennsylvania Ave. NW., Washington, DC 20460; telephone number: 703-305-9542; email address: johnson.amaris@epa.gov.

SUPPLEMENTARY INFORMATION: Supporting documents for the Requirements for Certified Applicators Using 1080 Collars for Livestock Protection ICR (EPA ICR No. 1249.11, OMB Control No. 2070-0074), which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The information in this ICR enables the agency to obtain information needed to track the use of registered Livestock Protection Collar products which contain solutions of Sodium Monofluoroacetate (Compound 1080). The mandatory record-keeping requirements for these Compound 1080 collars were imposed by an administrative judge in October 1982 and confirmed by the agency in 1983. It ensures the proper use and function of the 1080 collar products, and demonstrates there is no threat of unreasonable harm to non-target animals or people.

Form Numbers: None.

Respondents/affected entities: Certified pesticide applicators that apply or hold inventory of 1080 collars, and the reporting agencies (state government, NAICS 999200) responsible for implementing and administering a 1080 collar monitoring program.

Respondent's obligation to respond: Mandatory.

Estimated number of respondents: 33 (total).

Frequency of response: Annual.

Total estimated burden: 1,431 hours (per year). Burden is defined at 5 CFR 1320.03(b).

Total estimated cost: $64,213 (per year), includes $0 annualized capital or operation & maintenance costs.

Changes in the Estimates: There is a decrease of 513 hours in the total estimated respondent burden compared with the ICR currently approved by OMB. This decrease reflects voluntary cancellation of the 1080 Livestock Protection Collar registration formerly held by the South Dakota Department of Agriculture and the removal of estimated burden associated with submission of annual Livestock Protection Collar production reports erroneously included in the previous renewal of this ICR. This resulted in a corresponding decrease in the associated burden. This change is an adjustment.

Courtney Kerwin,
Director, Regulatory Support Division.

[FR Doc. 2017-13147 Filed 6-22-17; 8:45 am]

BILLING CODE 6560-50-P